DEPARTMENT OF ENERGY

Federal Energy Regulatory Commission

Notice of Staff Attendance at Southwest Power Pool Regional Entity Trustee, Regional State Committee, Members' and Board of Directors' Meetings

The Federal Energy Regulatory Commission (Commission) hereby gives notice that members of its staff may attend the meetings of the Southwest Power Pool, Inc. (SPP) Regional Entity Trustee (RE), Regional State Committee (RSC), SPP Members Committee and Board of Directors, as noted below. Their attendance is part of the Commission's ongoing outreach efforts.

All meetings will be held at the Southwest Power Pool Corporate Center, 201 Worthen Drive, Little Rock, AR 72223.

SPP RE

October 26, 2015 (8:00 a.m.-2:00 p.m.)

SPP RSC

October 26, 2015 (1:00 p.m.-5:00 p.m.)

SPP Members/Board of Directors

October 27, 2015 (8:00 a.m.-3:00 p.m.)

The discussions may address matters at issue in the following proceedings:

Docket No. EL05-19, Southwestern Public Service Company

Docket No. ER05-168, Southwestern Public Service Company

Docket No. ER06-274, Southwestern Public Service Company

Docket No. EL11-34, Midcontinent Independent System Operator, Inc.

Docket No. ER11-1844, Midcontinent Independent System Operator, Inc.

Docket No. EL12-28, Xcel Energy Services Inc., et al.

Docket No. EL12-59, Golden Spread Electric Cooperative, Inc.

Docket No. EL12-60, Southwest Power Pool, Inc., et al.

Docket No. ER12-480, Midcontinent Independent System Operator, Inc.

Docket No. ER12-1179, Southwest Power Pool, Inc.

Docket No. ER12-1586, Southwest Power Pool, Inc.

Docket No. ER13-1864, Southwest Power Pool, Inc.

Docket No. ER13-1937, Southwest Power Pool, Inc.

Docket No. ER13-1939, Southwest Power Pool, Inc.

Docket No. EL14-30, Midcontinent Independent System Operator, Inc.

Docket No. EL14-93, Kansas Corporation Commission v. Westar Energy, Inc.

Docket No. EL15-66, Southern Company Services, et al. v. Midcontinent Independent System Operator

Docket No. EL15-77, Morgan Stanley Capital Group Inc. v. Midcontinent Independent System Operator, Inc.

Docket No. ER14-67, Southwest Power Pool, Inc.

Docket No. ER14-781, Southwest Power Pool, Inc.

Docket No. ER14-1174, Southwest Power Pool, Inc.

Docket No. ER14-1713, Midcontinent Independent System Operator, Inc.

Docket No. ER14-2022, Midcontinent Independent System Operator, Inc.

Docket No. ER14-2363, Southwestern Public Service Company

Docket No. ER14-2445, Midcontinent Independent System Operator, Inc.

Docket No. ER14-2553, Southwest Power Pool, Inc.

Docket No. ER14-2570, Southwest Power Pool, Inc.

Docket No. ER14-2850, Southwest Power Pool, Inc.

Docket No. ER14-2851, Southwest Power Pool, Inc.

Docket No. ER15-1163, Southwest Power Pool, Inc.

Docket No. ER15-1293, Southwest Power Pool, Inc.

Docket No. ER15-1499, Southwest Power Pool, Inc.

Docket No. ER15-1737, Southwest Power Pool, Inc.

Docket No. ER15-1775, Southwest Power Pool, Inc.

Docket No. ER15-1906, Southwest Power Pool, Inc.

Docket No. ER15-1918, Southwest Power Pool, Inc.

Docket No. ER15-2268, Southwest Power Pool, Inc.

Docket No. ER15-2295, Southwest Power Pool, Inc.

Docket No. ER15-2423, Southwest Power Pool, Inc.

Docket No. ER15-2432, Southwest Power Pool, Inc.

Docket No. ER15-2433, Southwest Power Pool, Inc.

Docket No. ER15-2434, Southwest Power Pool, Inc.

Docket No. ER15-2439, Southwest Power Pool, Inc.

Docket No. ER15-2452, Southwest Power Pool, Inc.

Docket No. ER15-2459, Southwest Power Pool, Inc.

Docket No. ER15-2460, Southwest Power Pool, Inc.

Docket No. ER15-2461, Southwest Power Pool, Inc.

Docket No. ER15-2462, Southwest Power Pool, Inc.

Docket No. ER15-2494, Southwest Power Pool, Inc.

Docket No. ER15-2496, Southwest Power Pool, Inc.

Docket No. ER15-2497, Southwest Power Pool, Inc.

Docket No. ER15-2498, Southwest Power Pool, Inc.

Docket No. ER15-2506, Southwest Power Pool, Inc.

Docket No. ER15-2507, Southwest Power Pool, Inc.

Docket No. ER15-2508, Southwest Power Pool, Inc.

Docket No. ER15-2512, Southwest Power Pool, Inc.

Docket No. ER15-2513, Southwest Power Pool, Inc.

Docket No. ER15-2514, Southwest Power Pool, Inc.

Docket No. ER15-2519, Southwest Power Pool, Inc.

Docket No. ER15-2520, Southwest Power Pool, Inc.

Docket No. ER15-2521, Southwest Power Pool, Inc.

Docket No. ER15-2531, Southwest Power Pool, Inc.

Docket No. ER15-2532, Southwest Power Pool, Inc.

Docket No. ER15-2540, Southwest Power Pool, Inc.

Docket No. ER15-2542, Southwest Power Pool, Inc.

Docket No. ER15-2543, Southwest Power Pool, Inc.

Docket No. ER15-2560, Southwest Power Pool, Inc.

Docket No. ER15-2596, Southwest Power Pool, Inc.

Docket No. ER15-2629, Southwest Power Pool, Inc.

Docket No. ER15-2624, Southwest Power Pool, Inc.

Docket No. ER15-2636, Southwest Power Pool, Inc.

Docket No. ER15-2646, Southwest Power Pool, Inc.

Docket No. ER15-2652, Southwest Power Pool, Inc.

Docket No. ER15-2669, Southwest Power Pool, Inc.

Docket No. ER15-2690, Southwest Power Pool, Inc.

Docket No. ER15-2705, Southwest Power Pool, Inc.

Docket No. ER16-6, Southwest Power Pool, Inc.

Docket No. ER16-7, Southwest Power Pool, Inc.

Docket No. ER16-13, Southwest Power Pool, Inc.

Docket No. ER16-25, Southwest Power Pool, Inc.

Docket No. ER16-31, Southwest Power Pool, Inc.

Docket No. ER16-37, Southwest Power Pool, Inc.

These meetings are open to the public.

For more information, contact Patrick Clarey, Office of Energy Market Regulation, Federal Energy Regulatory Commission at (317) 249-5937 or patrick.clarey@ferc.gov.

Dated: October 14, 2015.
Kimberly D. Bose,
Secretary.

[FR Doc. 2015-26547 Filed 10-19-15; 8:45 am]

BILLING CODE 6717-01-P